DEPARTMENT OF COMMERCE

Bureau of Export Administration

Transportation and Related Equipment Technical Advisory Committee; Notice of Open Meeting

The Transportation and Related Equipment Technical Advisory Committee will meet on May 9, 2001, 9:30 a.m., at the Herbert C. Hoover Building, Room 3884, 14th Street between Pennsylvania and Constitution Avenues, NW., Washington, DC. The Committee advises the Office of the Assistant Secretary for Export Administration with respect to technical questions that affect the level of export controls applicable to transportation and related equipment or technology.

Agenda

1. Opening remarks by the Chairman.

2. Presentation of papers or comments by the public.

3. Update on Bureau of Export Administration initiatives.

4. Update on foreign policy controls.

5. Briefing on missile technology issues.

6. Update on the Wassenaar Arrangement.

7. Update on regulatory changes.

The meeting will be open to the public and a limited number of seats will be available. Reservations are not accepted. To the extent time permits, members of the public may present oral statements to the Committee. Written statements may be submitted at any time before or after the meeting. However, to facilitate distribution of public presentation materials to Committee members, the Committee suggests that you forward your public presentation materials two weeks prior to the meeting to the following address: Ms. Lee Ann Carpenter, OSIES/EA/BXA MS: 3876, U.S. Department of Commerce, 14th & Constitution Avenue, NW., Washington, DC 20230.

For more information or copies of the minutes, please call Lee Ann Carpenter on (202) 482-2583.

Dated: April 17, 2001.
Lee Ann Carpenter,
Committee Liaison Officer.

[FR Doc. 01-9875 Filed 4-20-01; 8:45 am]

BILLING CODE 3510-JT-M